DEPARTMENT OF THE INTERIOR

National Park Service

Drafting of U.S. Nominations to the World Heritage List

AGENCY: Department of the Interior, National Park Service.

ACTION: Second Notice and Request for Comment

SUMMARY: This notice constitutes the Second Notice referred to in Sec. 73.7(c) of the World Heritage Program regulations (36 CFR Part 73), and sets forth the decision to request that draft World Heritage nominations for Papahanaumokuakea Marine National Monument, Hawaii, and Mount Vernon, Virginia, be prepared.

On March 19, 2008, the Department of the Interior requested public comment on whether any properties identified on the U.S. Tentative List should be nominated to the World Heritage List, and in particular whether Papahanaumokuakea Marine National Monument, Hawaii, and Mount Vernon, Virginia, should be nominated. After review of the comments provided by the public and consultation with the Federal Interagency Panel on World Heritage, the Department, in accordance with 36 CFR part 73, has selected Papahanaumokuakea National Monument and Mount Vernon as proposed nominations to the World Heritage List. With the assistance of the Department, the owners of these sites are encouraged to prepare complete nomination documents for the sites in accordance with 36 CFR Part 73 and the nomination format required by the World Heritage Committee. A discussion of the decision and comments received follows.

DATES: Draft World Heritage nominations for Papahanaumokuakea Marine National Monument and Mount Vernon must be prepared and submitted in substantially complete draft form to the National Park Service by July 15, 2008. (The World Heritage nomination format may be found at the World Heritage Centre Web site at http://whc.unesco.org/en/nominationform.) The National Park Service will coordinate the review and evaluation of the draft nominations.

Submission of interim draft nominations to the World Heritage Centre must be made by September 30, 2008. The Centre is to provide technical comments by November 14, 2008. The Federal Interagency Panel for World Heritage will review draft nominations in a phone conference tentatively scheduled for November 19, 2008. The Interagency Panel will evaluate the adequacy of the nominations, the significance of the properties and whether the nominations should be forwarded to the World Heritage Centre to be considered for listing. Final submittal to the World Heritage Centre by the Department of the Interior through the Department of State is required by January 30, 2009, if the properties are to be considered in the current cycle of nominations to the World Heritage List. Submittal of final nominations must be made no later than that date for the World Heritage Committee to be able to consider them at its annual meeting in the summer of 2010.

Protective measures must be in place before a property may be nominated. If a nomination cannot be completed in accordance with this timeline, work may continue into the following year(s) for subsequent submission to UNESCO.

The public is invited to comment on the decision to nominate the two sites up to and including 30 days from the publication of this notice.

ADDRESSES: Please provide all additional comments directly to Jonathan Putnam, Office of International Affairs, National Park Service, 1201 Eye Street, NW., (0050) Washington, DC 20005 or by E-mail to: jonathan_putnam@nps.gov. Phone: 202-354-1809. Fax 202-371-1446.

All comments will be a matter of public record and, if received in a timely manner, will be shared with property owners to assist in preparing the World Heritage nominations. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Jonathan Putnam, 202-354-1809 or April Brooks, 202-354-1808. For summary information on the U.S. Tentative List and how it was developed, please see the March 19, 2008, Federal Register notice (Volume 73, Number 54, pages 14835-14838). Complete information about U.S. participation in the World Heritage Program and the process used to develop the Tentative List is posted on the Office of International Affairs Web site at: http://www.nps.gov/oia/topics/worldheritage/tentativelist.htm.

Only the 14 properties currently included in U.S. Tentative List are eligible to be considered for nomination by the United States to the World Heritage List. Brief descriptions of the properties appear in a copy of the press release announcing the Tentative List, which is linked to the site just noted above. The U.S. Tentative List report on the 14 sites in the form submitted to the UNESCO World Heritage Centre on January 24, 2008, appears in its entirety on the Internet at http://www.nps.gov/oia/topics/worldheritage/tentativelist/WHTentList.doc. The full applications submitted to the National Park Service for the candidate sites can be viewed at http://www.nps.gov/oia/NewWebpages/ApplicantsTentativeList.html.) To request paper copies of documents discussed in this notice, please contact April Brooks, Office of International Affairs, National Park Service, 1201 Eye Street, NW., (0050) Washington, DC 20005. E-mail: April_Brooks@nps.gov.

Summary of Public Comments: On March 19, 2008, the Department published the new Tentative List, which consists of properties that appear to qualify for World Heritage status and which may be considered for nomination by the United States to the World Heritage List, in the Federal Register (Volume 73, Number 54, pages 14835-14838), along with the request for public comment on the Papahanaumokuakea Marine National Monument, Mount Vernon, and the twelve other sites on the List. Comments were accepted through April 3, fifteen days after the date of publication of the notice in the Federal Register. Respondents were asked to address the qualifications of the Tentative List properties for nomination by the United States to the World Heritage List.

A summary of the 19 public comments on the proposal to prepare nominations of sites from the Tentative List in 2008 appears below, along with the Department's responses as appropriate. The comments were also available to the Federal Interagency Panel on World Heritage and to the Department of the Interior officials who have selected the initial U.S. World Heritage nominations. The full texts of all the comments are available upon request.

In some cases, respondents offered site-specific or general comments that addressed other issues, such as the merits of particular properties and advice on and priorities for revision of the Tentative List. Those comments have been retained and will remain on file to be considered in due course.

Sites on the Tentative List for which no specific comments were received regarding their nomination this year are not discussed.

Cultural Sites

Mount Vernon, Virginia

The Accokeek Foundation, a Virginia State Senator and two members of the Virginia House of Delegates expressed their strong support of the proposed nomination. US/ICOMOS expressed doubts about the prospects that the World Heritage Committee will find that the Mount Vernon site meets the World Heritage criteria. The Department acknowledges this concern and has provided Mount Vernon management with the comments.

Poverty Point National Monument and State Historic Site, Louisiana

Four Members of Congress wrote to recommend that this site be nominated this year. The Department believes that the two other sites being proposed for this year would better diversify the portfolio of United States sites.

US/ICOMOS recommended that this site be considered as part of a serial or joint nomination with other similar sites.

San Antonio Franciscan Missions, Texas

The San Antonio Conservation Society wrote in strong support of this site being nominated.

US/ICOMOS proposed this site as an alternative nomination to Mount Vernon. The Department will consider this recommendation for future years.

One respondent expressed concerns about the name of this proposed nomination and desires that the Native American role at the missions be fully and sensitively emphasized in any nomination, including in its name. This recommendation will be taken into account. Another respondent expressed his concern that the Alamo not come under United Nations authority. The United Nations does not have any role in the management of existing or potential U.S. World Heritage sites.

Mixed Natural and Cultural Site

Papahanaumokuakea Marine National Monument, Hawaii

Strongly supportive comments for this site were received from US/ICOMOS, the Trust for Public Land and several individuals. US/ICOMOS also recommended that consideration be given to treatment of the Battle of Midway and its associated shipwrecks and aircraft. This important history will be included in appropriate descriptive and historical sections of the nomination but will not be treated as a primary basis for nomination under the World Heritage cultural criteria.

The Western Pacific Regional Fishery Management Council (WPRFMC) recommended that Papahanaumokuakea not be nominated, based on their concerns that World Heritage designation would lead to increased tourism and associated impacts on the Monument's natural resources. The Department understands that the Monument does not plan to increase visitation to the site, nor does World Heritage designation require public access.

WPRFMC also expressed concerns about the National Park Service becoming involved in the management of the Monument. The National Park Service will not be involved in the Monument's management.

WPRFMC requested additional time for comment and stated doubts regarding the extent of support in Hawaii for the proposed nomination.

The Department anticipates that the co-trustees of the Monument (the State of Hawaii, the U.S. National Oceanic and Atmospheric Administration and the U.S. Fish and Wildlife Service) will address the concerns raised by the WPRFMC during the balance of the year as the World Heritage nomination is being prepared. Also, as noted elsewhere, the National Park Service will continue to take comments on the two proposed draft nominations up to and including 30 days from the publication of this notice.

Recommendations of the Federal Interagency Panel for World Heritage

The Federal Interagency Panel for World Heritage assists the Department of the Interior in implementing the Convention by making recommendations on U.S. World Heritage policy, procedures, and nominations. The Panel is chaired by the Assistant Secretary for Fish and Wildlife and Parks and includes representatives from various Federal Departments and agencies with Federal land management and policymaking responsibilities. The Panel made its recommendations to the Department on the U.S. Tentative List in a conference call on April 8, 2008.

The Panel agreed by consensus to support the preparation of a nomination this year for Papahanaumokuakea Marine National Monument. It took note of the comments and concerns raised by the Western Pacific Regional Fishery Management Council and were informed that those comments would be shared with the co-trustees of the site who intend to draft a nomination.

Regarding Mount Vernon, the Panel acknowledged that it shared the concerns voiced by a few public respondents about the prospects for completing a nomination of Mount Vernon this year that would successfully address the World Heritage criteria. The World Heritage Committee's practice of generally discouraging the listing of sites associated with prominent individuals was referenced in that regard. It was agreed that those concerns would be shared with the Mount Vernon staff who are working on the proposed nomination. It was also noted that the property has considerable importance as an historic landscape important in colonial history and as a prime illustration of plantation life and economy, but that more documentation may be needed to establish its preeminence in that regard. After discussion, the Panel concurred in the effort to draft a nomination for Mount Vernon.

The Panel reviewed the public suggestions for nominations for other properties this year from the U.S. Tentative List but did not recommend the preparation of nominations for any additional or alternate properties. It was acknowledged that, although the United States is eligible to nominate two sites this year, it might be preferable to submit only one nomination. Panel members emphasized concern that it would be undesirable to have any of the first nominations made by the United States since 1994 be unsuccessful.

The Panel's next meeting this fall (tentatively scheduled for November 19, 2008) will review and recommend on draft nominations for Papahanaumokuakea Marine National Monument and Mount Vernon, if they are completed on schedule.

In addition, in response to certain public comments and the opinions of Panel members, the Panel agreed to place the topic of the process for future revisions of the U.S. Tentative List, noting specific comments in that regard by US/ICOMOS, on the agenda for the Panel's next meeting.

Decision To Encourage the Preparation of Two U.S. World Heritage Nominations

The Department considered both public comments received during the comment period and the advice of the Federal Interagency Panel for World Heritage in making the decisions to draft two U.S. World Heritage nominations. Both properties meet the initial prerequisites for nomination by the United States to the World Heritage List. They appear to meet one or more of the World Heritage criteria and all owners support the nomination of these nationally significant properties to the World Heritage List.

Brief descriptions are provided for these potential nominations. The Department will make final decisions on whether to nominate these two sites to the World Heritage List based on complete draft World Heritage nominations for them. The Department encourages all interested parties to comment and make recommendations as the nomination process continues.

Draft World Heritage nominations will be requested for the following sites:

Papahanaumokuakea Marine National Monument, Hawaii

This 1,200-mile-long string of islands, atolls, coral reefs and adjacent waters, running northwest from the main Hawaiian islands and encompassing over 89 million acres, is one of the world's largest and most significant marine protected areas. Scattered in the deep ocean are some 10 small islands along with extensive reefs and shoals. In this remote and still relatively pristine part of the Pacific, marine life flourishes, and the area is home to a large number of species found nowhere else in the world, including a wide array that are threatened and endangered. Large populations of seabirds nest on isolated sandy shores and the waters harbor impressive numbers of large predatory fish. The geology of the islands is also highly significant—the chain represents the longest, clearest, and oldest example of island formation and atoll evolution in the world.

Native Hawaiians reached these islands at least 1,000 years before any other people and established settlements on some of them. The islands, along with their significant archeological sites, retain great cultural and spiritual significance to Native Hawaiians. Midway Atoll and its environs was also the site of a major battle of World War II.

Papahanaumokuakea Marine National Monument is selected for nomination because, among other factors, it will, as a marine site and a mixed cultural and natural site in the Pacific, fill conspicuous gaps in the United States portfolio of World Heritage Sites. Similar gaps likewise exist in the World Heritage List as a whole, wherein few marine, Pacific, or mixed sites are listed. Its merits on both cultural and natural criteria are regarded as particularly outstanding. In addition, its co-trustees (the State of Hawaii, the U.S. Fish and Wildlife Service, and the U.S. National Oceanic and Atmospheric Administration) strongly support its nomination and have assembled a team to prepare the documentation.

Mount Vernon, Virginia

George Washington's long-time home, with its associated gardens and grounds, forms a remarkably well-preserved and extensively documented example of a plantation landscape of the 18th-century American South. Mount Vernon also has importance in the history of agronomy.

It was based on English models but modified and adapted to its American context, which included slave labor as an economic basis. There is a core of 16 surviving 18th-century structures set in a landscape of gardens, fences, lanes, walkways, and other features, situated along the Potomac River, that changed and developed over many years in Washington's family. The Mount Vernon Ladies' Association, which has owned and maintained the property for 150 years, is strongly supportive of the site's nomination to the World Heritage List.

George Washington's Mount Vernon is being selected for the drafting of a World Heritage nomination primarily because it likewise could fill a significant gap in the U.S. cultural site list. Colonial expressions of architecture and landscape are also poorly represented on the World Heritage List as a whole. Mount Vernon is a particularly outstanding example of a type of colonial landscape that was tied to the plantation economy based on slavery that prevailed in the American South during the colonial and early Federal periods. It is also the primary illustration of the early historic preservation movement in the United States.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1972, and the United States was the first nation to ratify it. In 2005, the United States was elected to a fourth term on the World Heritage Committee and will serve until 2009. The Committee, composed of representatives of 21 nations elected as the governing body of the World Heritage Convention, makes the final decisions on which nominations to accept on the World Heritage List at its annual meeting each summer.

There are 851 sites in 140 of the 185 signatory countries. Currently there are 20 World Heritage Sites in the United States.

U.S. participation and the roles of the Department of the Interior and the National Park Service are authorized by Title IV of the Historic Preservation Act Amendments of 1980 and conducted in accordance with 36 CFR 73—World Heritage Convention. The National Park Service provides the technical and staff support to the Assistant Secretary for Fish and Wildlife and Parks, who has the lead role for the U.S. Government in the implementation of the Convention. The National Park Service manages all or parts of 17 of the 20 U.S. World Heritage Sites currently listed, including Yellowstone National Park, Everglades National Park, and the Statue of Liberty.

A Tentative List is a national list of natural and cultural properties appearing to meet the World Heritage Committee eligibility criteria for nomination to the World Heritage List. A country cannot nominate a property unless it has been on its Tentative List for a minimum of a year. Countries are limited to nominating no more than two sites in any given year.

Neither inclusion in the Tentative List nor inscription as a World Heritage Site imposes legal restrictions on owners or neighbors of sites, nor does it give the United Nations any management authority or ownership rights in U.S. World Heritage Sites, which continue to be subject exclusively to U.S. law. Inclusion in the Tentative List merely indicates that the property may be further examined for possible World Heritage nomination in the future.

The World Heritage Committee's Operational Guidelines ask participating nations to provide Tentative Lists, which aid in evaluating properties for the World Heritage List on a comparative international basis and help the Committee to schedule its work over the long term. The Guidelines recommend that a nation review its Tentative List at least once every decade.

In order to guide the U.S. World Heritage Program effectively and in a timely manner, the National Park Service prepared and submitted (through the Secretary of the Interior and the Secretary of State) a new Tentative List to the World Heritage Centre of UNESCO on January 24, 2008. Submittal of nominations must be made no later than January 30, 2009, for the World Heritage Committee to be able to consider them at its annual meeting in the summer of 2010.

Authority: 16 U.S.C. 470 a-1, a-2, d; 36 CFR 73.

Lyle Laverty,
Assistant Secretary for Fish and Wildlife and Parks.

[FR Doc. E8-15402 Filed 7-7-08; 8:45 am]

BILLING CODE 4312-52-P